DEPARTMENT OF ENERGY

Federal Energy Regulatory Commission

[Docket No. AD05-1-000]

Principles for Efficient and Reliable Reactive Power Supply and Consumption; Notice Establishing Comment Date

February 11, 2005.

On February 4, 2005, the Commission made available to the public a Staff Report on Reactive Power Supply and Consumption. The Staff Report explores the issue of reactive power supply from both a technical and economic perspective. The Staff Report will be the subject of a March 8, 2005 technical conference.¹ In addition, the Commission invites comment on the Staff Report, including but not limited to comments regarding the technical aspects of reactive power supply and the development of possible cost recovery mechanisms.

¹ A Notice of Technical Conference was issued on January 31, 2005.

The Commission encourages electronic submission of comments in lieu of paper using the “eFiling” link at http://www.ferc.gov. Persons unable to file electronically should submit an original and copies of the comment to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: April 4, 2005.

Magalie R. Salas,
Secretary.

[FR Doc. E5-679 Filed 2-17-05; 8:45 am]

BILLING CODE 6717-01-P